DEPARTMENT OF ENERGY

Federal Energy Regulatory Commission

[Project No. 2310-193-California; Project No. 2266-102-California]

Pacific Gas and Electric Company; Nevada Irrigation District; Notice of Availability of the Draft Environmental Impact Statement for the Drum-Spaulding and Yuba-Bear Hydroelectric Projects

In accordance with the National Environmental Policy Act of 1969 and the Federal Energy Regulatory Commission (Commission or FERC) regulations contained in the Code of Federal Regulations (CFR) (18 CFR part 380 [FERC Order No. 486, 52 FR 47897]), the Office of Energy Projects has reviewed the application for license for the Drum-Spaulding Project (FERC No. 2310) and the Yuba-Bear Project (FERC No. 2266) and has prepared a draft environmental impact statement (EIS) for the projects. The Drum-Spaulding Project is located within three primary river basins, the South Yuba River, Bear River, and North Fork of the North Fork American River, in Nevada and Placer Counties, California, and occupies 994 acres of federal lands administered by the Forest Service, Bureau of Land Management (BLM), and Bureau of Reclamation. The Yuba-Bear Project is located within three major river basins, the Middle Yuba River, South Yuba River, and Bear River, in Sierra, Nevada, and Placer Counties, California, and occupies 1,748 acres of federal lands administered by the Forest Service and BLM.

The draft EIS contains staff's analysis of the applicants' proposals and the alternatives for relicensing the Drum-Spaulding and Yuba-Bear Projects. The draft EIS documents the views of governmental agencies, non-governmental organizations, affected Indian tribes, the public, the license applicants, and Commission staff.

A copy of the draft EIS is available for review at the Commission or may be viewed on the Commission's Web site at http://www.ferc.gov, using the “e-Library” link. Enter the docket number, excluding the last three digits, to access the document. For assistance, contact FERC Online Support at FERCOnlineSupport@ferc.gov or toll-free at (866)208-3676, or for TTY, contact (202)502-8659.

You may also register online at http://www.ferc.gov/docs-filing/esubscription.asp to be notified via email of new filings and issuances related to this or other pending projects. For assistance, contact FERC Online Support.

All comments must be filed by Tuesday, July 23, 2013, and should reference Project Nos. 2310-193 and 2266-102. Comments may be filed electronically via the Internet. See 18 CFR 385.2001(a)(1)(iii) and the instructions on the Commission's Web site (http://www.ferc.gov/docs-filing/ferconline.asp) under the “eFiling” link. For a simpler method of submitting text only comments, click on “Quick Comment.” For assistance, please contact FERC Online Support. Although the Commission strongly encourages electronic filing, documents may also be paper-filed. To paper-file, mail an original and five copies to: Kimberly D. Bose, Secretary, Federal Energy Regulatory Commission, 888 First Street NE., Washington, DC 20426.

Anyone may intervene in this proceeding based on this draft EIS (18 CFR 380.10). You must file your request to intervene as specified above.¹ You do not need intervenor status to have your comments considered.

¹ Interventions may also be filed electronically via the Internet in lieu of paper. See the previous discussion on filing comments electronically.

Commission staff will hold two public meetings for the purpose of receiving comments on the draft EIS. The daytime meeting will focus on resource agency, Indian tribes, and non-governmental organization comments, while the evening meeting is primarily for receiving input from the public. All interested individuals and entities will be invited to attend one or both of the public meetings. A notice detailing the exact date, time, and location of the public meetings will be forthcoming.

For further information, please contact Alan Mitchnick at (202) 502-6074 or at alan.mitchnick@ferc.gov.

Dated: May 17, 2013.
Kimberly D. Bose,
Secretary.

[FR Doc. 2013-12294 Filed 5-22-13; 8:45 am]

BILLING CODE 6717-01-P